DEPARTMENT OF JUSTICE

Office of Justice Programs

[OJP (OJJDP) Docket No. 1803]

Coordinating Council on Juvenile Justice and Delinquency Prevention Charter Renewal

AGENCY: Coordinating Council on Juvenile Justice and Delinquency Prevention (“Council”), Office of Justice Programs, Department of Justice.

ACTION: Notice of charter renewal.

SUMMARY: Notice that the charter of the Coordinating Council on Juvenile Justice and Delinquency Prevention has been renewed.

FOR FURTHER INFORMATION CONTACT: Visit the website for the Coordinating Council at www.juvenilecouncil.gov or contact Julie Herr, Designated Federal Official (DFO), Office of Juvenile Justice and Delinquency Prevention (OJJDP), by telephone at (202) 598-6885 (not a toll-free number) or via email: julie.herr@ojp.usdoj.gov.

SUPPLEMENTARY INFORMATION: This Federal Register notice notifies the public that the Charter of the Coordinating Council on Juvenile Justice and Delinquency Prevention has been renewed in accordance with the Federal Advisory Committee Act, Section 14(a)(1). The renewal Charter was renewed on June 28, 2022. One can obtain a copy of the renewal Charter by accessing the Coordinating Council on Juvenile Justice and Delinquency Prevention's website at www.juvenilecouncil.gov.

Julie Herr,
Designated Federal Official, Office of Juvenile Justice and Delinquency Prevention.

[FR Doc. 2022-14848 Filed 7-12-22; 8:45 am]

BILLING CODE 4410-18-P